DEPARTMENT OF TRANSPORTATION

Federal Aviation Administration

14 CFR Part 39

[Docket No. FAA-2011-1159; Directorate Identifier 2011-NE-34-AD; Amendment 39-16864; AD 2011-23-13]

RIN 2120-AA64

Airworthiness Directives; Honeywell International Inc. Turboshaft Engines

AGENCY: Federal Aviation Administration (FAA), DOT.

ACTION: Final rule; request for comments.

SUMMARY: We are adopting a new airworthiness directive (AD) for Honeywell International Inc. LTS101-600A-2, -3, -3A, and LTS101-700D-2 turboshaft engines with certain power turbine governors (PTG) model AL-AB1, installed, that are marked with compliance symbol N or P, or with no compliance symbol, on the PTG identification plate. This AD requires initial and repetitive replacements of the affected PTGs. This AD was prompted by reports of two accidents where the engines suddenly lost power and the helicopters had to make emergency autorotation landings, leading to substantial damage to the helicopters. We are issuing this AD to prevent loss of engine power, leading to emergency autorotation landing and damage to the helicopter.

DATES: This AD is effective November 29, 2011.

We must receive comments on this AD by December 29, 2011.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: (800) 647-5527) is in the ADDRESSES section. Comments will be available in the AD docket shortly after receipt.

FOR FURTHER INFORMATION CONTACT: Robert Baitoo, Aerospace Engineer, Los Angeles Aircraft Certification Office, FAA, 3960 Paramount Blvd., Lakewood, CA 90712; phone: (562) 627-5245; fax: (562) 627-5210; email: robert.baitoo@faa.gov.

SUPPLEMENTARY INFORMATION:

Discussion

We received reports of two accidents where the engines suddenly lost power and the helicopters had to make emergency autorotation landings. Investigation revealed that PTG spool bearings, part number (P/N) 2523973 Revision N and P/N 2523973 Revision P, could fail prematurely. PTGs with these affected spool bearings require repetitive replacements before the spool bearings wear out prematurely. This condition, if not corrected, could result in sudden engine power loss, the helicopter making an emergency autorotation landing, and substantial damage to the helicopter.

FAA's Determination

We are issuing this AD because we evaluated all the relevant information and determined the unsafe condition described previously is likely to exist or develop in other products of the same type design.

AD Requirements

This AD requires initial and repetitive replacements of PTGs model AL-AB1, P/N 4-301-289-03, 4-301-289-05, 4-301-289-09, 4-301-101-16, and 4-301-101-18, that are marked with compliance symbol N or P, or with no compliance symbol, on the PTG identification plate.

Interim Action

We consider this AD interim action. If final action is later identified, we might consider further rulemaking then.

FAA's Justification and Determination of the Effective Date

An unsafe condition exists that requires the immediate adoption of this AD. The FAA has found that the risk to the flying public justifies waiving notice and comment prior to adoption of this rule because of the premature failure of the affected PTGs. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-1159 and Directorate Identifier 2011-NE-34-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 83 Honeywell International Inc. LTS101-600A-2, -3, -3A, and LTS101-700D-2 turboshaft engines, installed on helicopters of U.S. registry. We also estimate that it will take about 3 work-hours to replace a PTG on each engine. Required parts would cost about $3,500 per engine. The average labor rate is $85 per work-hour. Based on these figures, we estimate the total cost of this AD for one PTG replacement to U.S. operators, to be $311,665.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-23-13 Honeywell International Inc.: Amendment 39-16864; Docket No. FAA-2011-1159; Directorate Identifier 2011-NE-34-AD.

(a) Effective Date

This AD is effective November 29, 2011.

(b) Affected ADs

None.

(c) Applicability

This AD applies to Honeywell International Inc. LTS101-600A-2, -3, -3A, and LTS101-700D-2 turboshaft engines with a power turbine governor (PTG) model AL-AB1, part number 4-301-289-03, 4-301-289-05, 4-301-289-09, 4-301-101-16, or 4-301-101-18, installed, that is marked with compliance symbol N or P, or with no compliance symbol, on the PTG identification plate.

(d) Unsafe Condition

This AD was prompted by reports of two accidents where the engines suddenly lost power and the helicopters had to make emergency autorotation landings, leading to substantial damage to the helicopters. We are issuing this AD to prevent loss of engine power, leading to emergency autorotation landing and damage to the helicopter.

(e) Compliance

Comply with this AD within the compliance times specified, unless already done.

(f) PTGs Marked With Compliance Symbol N, or With No Compliance Symbol

(g) For PTGs that are marked with compliance symbol N, or with no compliance symbol, on the PTG identification plate:

(1) If the PTG has more than 150 operating hours time-since-new (TSN), time-since-overhaul (TSO), or time-since-replacement (TSR), on the effective date of this AD, replace it with a PTG that is eligible for installation, within the next 50 operating hours.

(2) If the PTG has 150 or fewer operating hours TSN, TSO, or TSR, on the effective date of this AD, replace it with a PTG that is eligible for installation, before accumulating 200 total operating hours.

(3) Thereafter, replace it with a PTG that is eligible for installation, within every 200 operating hours TSN, TSO, or TSR.

(h) PTGs Marked With Compliance Symbol P

(i) For PTGs that are marked with compliance symbol P, on the PTG identification plate:

(1) Replace it with a PTG that is eligible for installation, before accumulating 900 operating hours.

(2) Thereafter, replace it with a PTG that is eligible for installation within every 900 operating hours TSN, TSO, or TSR.

(j) Alternative Methods of Compliance (AMOCs)

The Manager, Los Angeles Aircraft Certification Office, FAA, has the authority to approve AMOCs for this AD, if requested using the procedures found in 14 CFR 39.19.

(k) Related Information

(1) For more information about this AD, contact Robert Baitoo, Aerospace Engineer, Los Angeles Aircraft Certification Office, FAA, 3960 Paramount Blvd., Lakewood, CA 90712; phone: (562) 627-5245; fax: (562) 627-5210; email: robert.baitoo@faa.gov.

(2) Honeywell International Inc. Service Bulletin No. LTS101-73-20-A0268, dated August 23, 2011, also pertains to this AD.

(3) For service information identified in this AD, contact Honeywell International Inc., P.O. Box 52181, Phoenix, AZ 85072-2181, phone: (800) 601-3099; Web site: http://portal.honeywell.com/wps/portal/aero.

(l) Material Incorporated by Reference

None.

Issued in Burlington, Massachusetts, on November 4, 2011.
Peter A. White,
Manager, Engine & Propeller Directorate, Aircraft Certification Service.

[FR Doc. 2011-29229 Filed 11-10-11; 8:45 am]

BILLING CODE 4910-13-P